DEPARTMENT OF TRANSPORTATION

Federal Aviation Administration

14 CFR Part 71

[Docket No. FAA-2008-0203; Airspace Docket No. 08-ANE-99]

Modification of Class D and E Airspace; Brunswick, ME

AGENCY: Federal Aviation Administration (FAA), DOT.

ACTION: Final rule, confirmation of effective date.

SUMMARY: This action confirms the effective date of a direct final rule published in the Federal Register (73 FR 56475) that modifies Class D and E Airspace at Brunswick, ME to reflect the times when the controlled airspace is effective.

DATES: Effective 0901 UTC, January 15, 2009. The Director of the Federal Register approves this incorporation by reference action under title 1, Code of Federal Regulations, part 51, subject to the annual revision of FAA Order 7400.9 and publication of conforming amendments.

FOR FURTHER INFORMATION CONTACT: Melinda Giddens, Operations Support Group, Federal Aviation Administration, P.O. Box 20636, Atlanta, Georgia 30320; Telephone (404) 305-5610, Fax 404-305-5572.

SUPPLEMENTARY INFORMATION:

Confirmation of Effective Date

The FAA published this direct final rule with a request for comments in the Federal Register on September 29, 2008 (73 FR 56475), Docket No. FAA-2008-0203; Airspace Docket No. 08-ANE-99. The FAA uses the direct final rulemaking procedure for a non-controversial rule where the FAA believes there will be no adverse public comment. This direct final rule advised the public that no adverse comments were anticipated, and that unless a written adverse comment, or a written notice of intent to submit such an adverse comment, were received within the comment period, the regulation would become effective on January 15, 2009.

No adverse comments were received, and thus this notice confirms that effective date.

* * * * *

Issued in College Park, Georgia, on December 2, 2008.
Mark D. Ward,
Manager, Operations Support Group, Eastern Service Center, Air Traffic Organization.

[FR Doc. E8-30434 Filed 12-22-08; 8:45 am]

BILLING CODE 4910-13-P